NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Joyce A. Jatko, Acting Permit Officer, Office of Polar Programs, Rm. 755, National Science Foundation, 4201 Wilson Boulevard, Arlington, VA 22230.

SUPPLEMENTARY INFORMATION: On December 4, 2002, the National Science Foundation published a notice in the Federal Register of permit applications received. A permit was issued on January 6, 2003 to: William Gilmore, Permit No. 2003-016.

Joyce A. Jatko,
Acting Permit Officer.

[FR Doc. 03-1759 Filed 1-24-03; 8:45 am]

BILLING CODE 7555-01-M